DEPARTMENT OF TRANSPORTATION

Pipeline and Hazardous Materials Safety Administration

Office of Hazardous Materials Safety; Actions on Special Permit Applications

AGENCY: Pipeline and Hazardous Materials Safety Administration (PHMSA), DOT.

ACTION: Notice of actions on Special Permit Applications.

SUMMARY: In accordance with the procedures governing the application for, and the processing of, special permits from the Department of Transportation's Hazardous Material Regulations (49 CFR part 107, subpart B), notice is hereby given of the actions on special permits applications in (January to November 2011). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on November 17, 2011.
Donald Burger,
Chief, Special Permits and Approvals Branch.

S.P. No. | Applicant | Regulation(s) | Nature of special permit thereof
MODIFICATION SPECIAL PERMIT GRANTED
11924-M | Packgen Corporation, Auburn, ME | 49 CFR 173.12(b)(2)(i) | To modify the special permit to authorize an additional non-bulk packaging.
11911-M | Transfer Flow, Inc., Chico, CA | 49 CFR 178.700 thru 178.819 | To modify the special permit to authorize new part numbers; to add several new refueling systems; to add two new fuel caps; and to add several new fuel tanks to the special permit.
13997-M | Maritime Helicopers, Homer, AK | 49 CFR 172.101(9b); 172.302(c) | To reissue the exemption originally issued on an emergency basis for the transportation of a Division 2.1 material in DOT Specification 51 portable tanks that exceed the quantities limitation by cargo aircraft.
13199-M | Carrier Corporation, Houston, TX | 49 CFR 173.302(c); 173.306(e)(1) | To modify the special permit to authorize a broader range for the amount of refrigerant gas.
7765-M | Carleton Technologies, Inc., Orchard Park, NY | 49 CFR 173.302(a)(4); 175.3 | To modify the special permit to authorize a new pressure vessel for use as part of a missile gas storage system.
10511-M | Schlumberger Technology, Sugar Land, TX | 49 CFR 173.304; 173.310 | To modify the special permit to authorize the transportation in commerce of Division 2.2 Corporation gases in non specification packaging.
15118-M | Mystery Creek Resources Inc., McGrath, AK | 49 CFR 172.101 Column (9B) | To reissue the special permit originally issued as an emergency as a permanent special permit.
10698-M | Worthington Cylinders, Chilton, WI | 49 CFR 173.304(a)(2); 178.50 | To modify the special permit to authorize additional Division 2.2 materials.
14157-M | Worthington Cylinders of Canada, Tilbury, Ontario | 49 CFR 173.302a | To modify the special permit to change the test criteria for Hot-Dip Galvanized cylinders from the ratio rejection in § 180.209 to elastic expansion of the REE marked on the cylinder.
9758-M | Coleman Company, Inc., The, Wichita, KS | 49 CFR 173.304(d)(3)(ii); 178.33 | To modify the special permit to authorize the transportation in commerce of an additional Division 2.1 material.
12332-M | Toyota Motor Sales, U.S.A., Inc., Torrance, CA | 49 CFR 173.166 (c) and (e) | To modify the special permit to add cargo vessel as an authorized mode of transportation and to allow consolidation of recycling parts from U.S. territories to be transported with recycling parts from the continental U.S.
15092-M | Tatonduk Outfitters Limited dba Everts Air Alaska, Fairbanks, AK | 49 CFR § 173.302(f) (3)(4), and (5), § 173.304(f) (3), (4), (5), and § 172.301(c) | To modify the special permit to bring it in line with all the other Alaska air carrier special permits.
14574-M | KMG Electronic Chemicals, Houston, TX | 49 CFR 180.407(c), (e) and (f) | To modify the special permit to authorize the addition of additional Class 8 hazardous materials and to add 16 new cargo tanks.
12247-M | Weldship Corporation, Bethlehem, PA | 49 CFR 172.301, 173.302a(b)(2), (b)(3) and (b)(4); 180.205(c) and (g) and 180.209(a) | To modify the special permit to authorize ultrasonic testing of DOT-SP 9001, 9370, 9421, 9706, 9791, 9909, 10047, 10869, and 11692 cylinders.
10704-M | Spray Products Corporation, Plymouth Meeting, PA | 49 CFR 173.302(a); Part 172, Subpart C, E and F; Part 172; Part 174; Part 177 | To modify the special permit to authorize additional end uses of the product.
15250-M | DOE/National Nuclear Security Administration, Albuquerque, NM | 49 CFR 173.56(b)(3)(i) | To reissue the special permit originally issued on an emergency basis for the transportation in commerce of certain explosives that are tested to a revision of the Department of Defense Ammunition and Explosive Hazard Classification Procedures TB 700-2 that has not been incorporated by reference.
15097-M | US Consumer Product Safety Commission, Denver, CO | 49 CFR 173.56 | To reissue the special permit originally issued on an emergency basis for the transportation of unapproved fireworks to the CPSC laboratory in Gaithersburg, MD for testing.
14924-M | Explosive Service International Ltd., Baton Rouge, LA | 49 CFR 176.144(e), 176.145(b), 176.137(b)(7), 176.63(e), 176.83 and 176.138(b) | To modify the special permit to authorize the transportation in commerce of certain Division 1.1D and 1.4B explosives by vessel in an alternative stowage configuration.
10597-M | Thermo King Corporation, Minneapolis, MN | 49 CFR 177.834(l)(2)(i) | To modify the special permit to authorize a new series of heaters containing Class 3 liquids and/or Division 2.1 gases.
12092-M | KMR Industries, LLC, Columbia, MD | 49 CFR 173.34(e) | To modify the special permit to authorize additional modes of transportation (rail and cargo vessel.)
NEW SPECIAL PERMIT GRANTED
15279-N | University Of Colorado at Boulder, Boulder, CO | 49 CFR Parts 171-180 | To authorize the transportation in commerce of Division 6.2 materials without being subject to the Hazardous Materials Regulations when transported for short distances by motor vehicle (less than 2 miles). (mode 1)
15304-N | Hillsboro Aviation, Hillsboro, OR | 49 CFR 172.101, Column (9B), 172.204(c)(3), 173.27(b)(2), 175.30(a)(1), 172.200, 172.300, and 172.400 | To authorize the transportation in commerce of certain hazardous materials by external load on helicopters in remote areas of the U.S. without being subject to hazard communication requirements and quantity limitations where no other means of transportation is available. (mode 4)
15284-N | Solvay Fluorides, LLC Houston, TX | 49 CFR 179.15(a), 173.31(e)(2)(ii) and 173.244(a)(2) | To authorize the transportation in commerce of anhydrous hydrogen fluoride in a DOT 112S5001 car with a minimum shell thickness of 1.263″ and full height headshields. (mode 2)
15335-N | Seastar Chemicals Inc., Sidney, BC | 49 CFR 173.158(f)(3) | To authorize the transportation in commerce of nitric acid up to 70% concentration in an alternative packaging configuration. (modes 1, 2, 3)
15343-N | Bush Air Cargo Inc., Anchorage, AK | 49 CFR 173.241 and 173.242 | To authorize the transportation in commerce of Class 3 liquid fuels in non-DOT specification collapsible, rubber containers up to 500 gallon capacity by cargo aircraft within and to only remote Alaska locations. (mode 4)
15351-N | Cooper-Atkins Corporation, Middlefield, CT | 49 CFR 173.4a | To authorize certain Division 2.1 and 2.2 materials to be transported as excepted quantities. (modes 3, 5)
15370-N | Tatonduk Outfitters Limited, Fairbanks, AK | 49 CFR 172.101, § 172.301(c), § 172.62(c), 172.101 Column (9B) | To authorize the transportation in commerce of certain Class 1 explosive materials which are forbidden for transportation by air, to be transported by cargo aircraft within the State of Alaska when other means of transportation are impracticable or not available. (mode 4)
15364-N | Winco Fireworks International, LLC, Lone Jack, MO | 49 CFR 172.302 and 173.60-173.62 | To authorize the transportation in commerce of Fireworks 1.4G, UNO336 in alternative packaging by motor vehicle. (mode 1)
15368-N | Shannon & Wilson Inc., Fairbanks, AK | 49 CFR 173.4 and 173.4a | To authorize the transportation in commerce of methanol mixtures as small quantities when the amount of material exceeds 30 ml. (modes 1, 4, 5, 6)
15388-N | Alpine Air Alaska, Inc., Girdwood, AK | 49 CFR 172.101 Column (9B), 172.204(c)(3), 173.27(b)(2), 175.30(a)(1), 172.200, 172.300 and 172.400 | To authorize the transportation in commerce of certain hazardous materials by cargo aircraft in remote areas of the U.S. without being subject to hazard communication requirements and quantity limitations where no other means of transportation is available. (mode 4)
15372-N | Takata de Mexico, S.A. de C.V. Ciudad Frontera | 49 CFR 173.301(a), 173.302(a), 178.65(f)(2) | To authorize the manufacture, marking, sale and use of non-DOT specification pressure vessels for use as components of safety systems. (modes 1, 2, 3, 4, 5)
15392-N | Brim Equipment Leasing, Inc. dba Brim Aviation, Ashland, OR | 49 CFR Parts 106, 107, and 171-180 | To authorize the transportation in commerce of certain hazardous materials by cargo aircraft including by external load in remote areas of the U.S. without being subject to hazard communication requirements and quantity limitations where no other means of transportation is available. (mode 4)
15397-N | Northern Pioneer Helicopters, LLC, Big Lake, AK | 49 CFR 172.101 Column (9B), 172.204(c)(3), 173.27(b)(2), 175.30(a)(1), 172.200, 172.300 and 172.400 | To authorize the transportation in commerce of certain hazardous materials by cargo aircraft including by external load in remote areas of Alaska without being subject to hazard communication requirements and quantity limitations where no other means of transportation is available. (mode 4)
15425-N | National Aeronautics & Space Administration (NASA), Washington, DC | 49 CFR 177.848 | To authorize the transportation in commerce of certain hydrazine fuels on the same motor vehicle without regard to segregation requirements. (mode 1)
15428-N | Space Exploration Technologies Corp., Hawthorne, CA | 49 CFR Part 172 and 173 | To authorize the transportation in commerce of certain hazardous material as part of the Dragon space capsule without requiring shipping papers, marking and labeling. (mode 1)
15446-N | Arkema, Inc., King of Prussia, PA | 49 CFR 172.427 | To authorize the transportation in commerce of organic peroxides in packaging with labeling allowed prior to changes promulgated under HM-215I. (mode 1)
15440-N | Mountain Air Helicopters, Inc., Los Lunas, NM | 49 CFR 172.101, Column (9B), 172.204(c)(3), 173.27(b)(2), 175.30 (a)(1) | To authorize the transportation in commerce of certain hazardous materials by cargo aircraft including by external load in remote areas of the U.S. without being subject to hazard communication requirements and quantity limitations where no other means of transportation is available. (mode 4)
EMERGENCY SPECIAL PERMIT GRANTED
15192-M | Korean Air Lines Co. Ltd. (KAL), Arlington, VA | 49 CFR 172.101 Column (9B) | To authorized transportation of additional Class 1 materials and a Division 4.2 that are forbidden for transportation by cargo only aircraft. (mode 4)
15270-M | Security Signals, Cordova, TN | 49 CFR 173.56(b)(1) | To modify the special permit to authorize an additional three months use. (mode 1)
15365-M | Lantis Productions Inc., Draper, UT | 49 CFR 172.300, 172.400 and 173.56 | To modify the special permit to remove the quantity limitation. (mode 1)
15455-M | United States Environmental Protection Agency Region II, Edison, NJ | 49 CFR Parts 171-180 | To add disaster areas affected by Tropical Storm Lee (modes 1, 2, 3)
15462-M | United States Environmental Protection Agency Region 9, Signal Hill, CA | 49 CFR 173.21 | To authorize the one-time, one-way transportation in commerce of an additional 19 DOT Specification 3A cylinders containing an experimental gas by motor vehicle for destruction. (mode 1)
15462-M | United States Environmental Protection Agency Region 9, Signal Hill, CA | 49 CFR 173.21 | To authorize the one-time, one-way transportation in commerce of an additional 19 DOT Specification 3A cylinders containing an experimental gas by motor vehicle for destruction. (mode 1)
11077-M | U.S. Department of Defense, Scott AFB, IL | 49 CFR 173.226(b); 173.227(b) | To modify the special permit by removing one Division 6.1 hazardous materials and adding an additional Division 6.1 hazardous material. (mode 1)
15462-M | United States Environmental Protection Agency Region 9, Signal Hill, CA | 49 CFR 173.21 | To authorize the one-time, one-way transportation in commerce of an additional 19 DOT Specification 3A cylinders containing an experimental gas by motor vehicle for destruction. (mode 1)
15277-N | Delta Air Lines, Inc., Atlanta, GA | 49 CFR 173.34(e); 173.304(a)(1); 173.305; 173.309; 175.3 | To authorize the transportation in commerce of fire extinguishers to be shipped with an alternative proper shipping name as specified in several exemptions. (modes 1, 2, 4, 5)
15250-N | DOE/National Nuclear Security Administration, Albuquerque, NM | 49 CFR 173.56(b)(3)(i) | To authorize the transportation in commerce of certain explosives that are tested to a revision of the Department of Defense Ammunition and Explosive Hazard Classification Procedures TB 700-2 that has not been incorporated by reference. (modes 1, 4)
15292-N | Air Supply Alaska, Inc., Kenai, AK | 49 CFR 172.101 Column (8C), 173.242, and 175.310(c)(1)(i) through 175.310(c)(1)(iii) | Authorizes the transportation in commerce of certain liquid fuels, Class 3 materials, contained in non-DOT specification packaging seal drums or rollagons of up to 500 gallon capacity by cargo aircraft to remote locations within the state of Alaska and Bronson Creek, British Columbia, Canada. (mode 4)
15326-N | Chemtura Corporation, Middlebury, CT | 49 CFR 178.337-8(a)(3) | To authorize the transportation of certain hazardous materials in DOT Specification 331 cargo tank motor vehicles that are not equipped with remote self-closing internal stop valves. (mode 1)
15330-N | Lynden Air Cargo LLC, Anchorage, AK | 49 CFR 172.101, § 172.301(c), § 172.62(c) | This special permit authorizes the transportation in commerce of certain Class 1 explosive materials which are forbidden for transportation by air, to be transported by cargo aircraft within the State of Alaska when other means of transportation are impracticable or not available.
15324-N | Bristow Alaska Inc. (Former Grantee: Air Logistics of Alaska, Inc.), Fairbanks, AK | 49 CFR § 172.101 Column (8C); § 173.242 and § 175.310(c)(1)(i) through § 175.310(c)(1)(iii) | This special permit authorizes the transportation in commerce of certain liquid fuels, Class 3 materials, contained in non-DOT specification packaging seal drums or rollagons of up to 500 gallon capacity by cargo aircraft to remote locations only within the state of Alaska. (mode 4)
15347-N | Raytheon Missile Systems Company, Tucson, AZ | 49 CFR 173.301, 173.302 and 173.306 | To authorize the transportation in commerce of helium in non-DOT specification packaging (cryoengines and assemblies of Maverick Missiles, Guidance Control Sections and Training Guidance Missiles containing cryoengines). (modes 1, 3, 5)
15357-N | Pacific Airways Inc., Ketchikan, AK | 49 CFR 172.101 Column (9b), 172.301(c), 172.62(c) | To authorize the transportation in commerce of certain Class 1 explosive materials which are forbidden for transportation by air, to be transported by cargo aircraft within and around the State of Alaska when other means of transportation are impracticable or not available. (mode 4)
15355-N | BST Manufacturing, Minden, LA | 49 CFR 173.56(a) and 173.62(b) | To authorize the one-time, one-way transportation in commerce of an unapproved explosive in 5 gallon plastic pails by motor vehicle for disposal. (mode 1)
15380-N | US DOT (PHMSA) Field Operations, Washington, DC | 49 CFR 173.56 | To authorize the one-way transportation in commerce of unapproved fireworks for testing. (mode 1)
15378-N | Ameriflight, Inc., Burbank, CA | 49 CFR 172.203(a), the 200 TI per cargo aircraft limitation in § 175.700(b)(2)(ii), and the separation distance requirements of § 175.702(6), except as specified herein | To authorize the carriage of radioactive materials aboard cargo aircraft only, under any combination of the following conditions: when the combined transport index exceeds the authorized limit of 200 per aircraft (as specified in § 175.700(b)(2)(ii)), or the separation distance criteria of § 175.702(b) cannot be met. (mode 4)
15365-N | Lantis Productions Inc., Draper, UT | 49 CFR 172.300, 172.400 and 173.56 | To authorize the one-time, one-way transportation in commerce of 10845 kg of unapproved fireworks from Carson, CA to the Lantis Fireworks & Lasers facility in Fairfield, UT for destruction by motor vehicle. (mode 1)
15389-N | AMETEK Ameron LLC d/b/a MASS Systems, Baldwin Park, CA | 49 CFR 173.301(a)(1), 173.301(a)(1), 173.302a(a)(1), and 173.304a(a)(1) | To authorize the manufacture, marking, sale and use of non-DOT specification high pressure longitudinal welded and drawn cylinder for transportation of compressed oxygen, flammable or non-flammable gases. (modes 1, 2, 3, 4, 5)
15420-N | USA Jet Airlines, Inc., Belleville, MI | 49 CFR 172.203(a), the 200 TI per cargo aircraft limitation in § 175.700(b)(2)(ii), and the separation distance requirements of § 175.702(a)(2)(ii), except as specified herein | To authorize the carriage of radioactive materials aboard cargo aircraft only, under any combination of the following conditions: when the combined transport index exceeds the authorized limit of 200 per aircraft (as specified in § 175.700(b)(2)(ii)), or the separation distance criteria of § 175.702(a)(2)(ii) cannot be met. (mode 4)
15431-N | Praxair, Inc., Danbury, CT | 49 CFR 171.23(a) and 173.304(d) | To authorize the transportation in commerce of 23 non-DOT specification cylinders containing a residue of Phosphine for export to Canada. (mode 1)
15430-N | Lockheed Martin Missiles and Fire Control, Orlando, FL | 49 CFR 178.503(a)(6) | To authorize the transportation in commerce of approximately 742 packages containing a Class 1 hazardous material that may be mismarked regarding the year of manufacture. (mode 1)
15394-N | INVISTA Sarl, Charlotte, NC | 49 CFR 173.32(0)(5) | To authorize the transportation in commerce of a portable tank that is not filled to 80% capacity for 10 miles by motor vehicle so that the hazardous materials can be repackaged. (mode 1)
15424-N | Antonov Company, t/a Antonov Airlines, Kiev, NH | 49 CFR § 172.101 Column (9B), 172.204(c)(3), 173.27, and 175.30(a)(1) | This emergency special permit authorizes the one-time transportation in commerce of certain cartridges for weapons, inert projectile that are forbidden for transportation by cargo only aircraft.
15408-N | Bald Mountain Air Service Inc., Homer, AK | 49 CFR 172.101 Column (8C); § 173.241; § 173.242 and § 175.320(a) in that non-DOT specification packaging is not authorized, except as specified herein | To authorize the transportation in commerce of certain liquid fuels, Class 3 materials, contained in non-DOT specification packaging seal drums or rollagons of up to 500 gallon capacity by cargo aircraft to remote locations within the state of Alaska and Bronson Creek, British Columbia, Canada. (mode 4)
15455-N | United States Environmental Protection Agency Region II, Edison, NJ | 49 CFR Parts 171-180 | To authorize the emergency transportation of hazardous materials in support of the recovery and relief efforts to, from and within the Hurricane Irene disaster areas of New York and New Jersey under conditions that may not meet the Hazardous Materials Regulations. (modes 1, 2, 3)
15462-N | United States Environmental Protection Agency Region 9, Signal Hill, CA | 49 CFR 173.21 | To authorize the one-time, one-way transportation in commerce of three DOT Specification 3A cylinders containing an experimental gas by motor vehicle for destruction. (mode 1)
15450-N | Wal-Mart Stores, Inc., Bentonville, AR | 49 CFR part 172, part 173 and part 177 | To authorize the one-time, one-way transportation in commerce of certain hazardous materials from damaged or stucturally-impaired retail stores impacted by Hurricane Irene to a temporary warehousing facility for approximately 10 miles by motor vehicle. (mode 1)
15459-N | Antonov Company, t/a Antonov Airlines, Kiev, NH | 49 CFR § 172.101 Column (9B) | To authorize the emergency transportation of hazardous materials in support of the recovery and relief efforts to, from and within the Hurricane Irene disaster areas of New York and New Jersey under conditions that may not meet the Hazardous Materials Regulations. (modes 1, 2, 3)
15441-N | Zapata Incorporated, Charlotte, NC | 49 CFR 173.201 | To authorize the transportation in commerce of a slurry mixture as Class 3 in alternative packaging by motor vehicle. (mode 1)
15442-N | Linde Gas North America LLC, Murray Hill, NJ | 49 CFR 180.212(a) and 180.212(b)(2) | To authorize the transportation in commerce of hydrogen fluoride, anhydrous in a non-DOT specification cylinder. (modes 1, 2, 3)
15445-N | Jiangxi Lidu Fireworks, Co, Ltd., Jianxain County, Jiangxi Province | 49 CFR 173.52, 49 CFR 173.50 | To authorize the transportation in commerce of certain unapproved Division 1.3G fireworks to a storage facility for the purpose of destruction. (mode 1)
MODIFICATION SPECIAL PERMIT WITHDRAWN
14778-M | Metalcraft/Sea-Fire Marine Inc., Baltimore, MD | 49 CFR 173.301(f) | To modify the special permit to authorize the transportation in commerce of additional non-DOT specification cylinders containing a Division 2.2 compressed gas for export only.
NEW SPECIAL PERMIT WITHDRAWN
15282-N | Lockheed Martin Space Systems Company, Denver, CO | 49 CFR 172.101 Column (9B), 173.301(f), 173.302a(a)(1) and 173.304a(a)(2) | To authorize the transportation in commerce of anhydrous ammonia in heat pipes. (modes 1, 2, 3, 4)
15276-N | Ecotec Manufacturing Inc. d.b.a. Yiwu City Machine Factory, Okeechobee, FL | 49 CFR 173.304a and 178.33 | To authorize the manufacture, marking, sale and use of a non-refillable, non-DOT specification inside metal container similar to a DOT specification 2Q for the transportation in commerce of Division 2.2 compressed gases. (mode 1)
15297-N | American Eagle Airlines, Inc., DFW Airport, TX | 49 CFR 180.209; 173.304(a)(1); 173.305; 173.309 | To authorize the transportation in commerce of fire extinguishers to be shipped with an alternative proper shipping name. (modes 1, 2, 4, 5)
15323-N | Kidde-Fenwal Inc., Ashland, MA | 49 CFR 171.23 | To authorize the manufacture, marking, sale and use of non-DOT specification cylinders meeting EN 13322-1, containing nitrogen, to be used in fire suppression systems. (mode 1)
15402-N | Benchmark River and Rail Terminals, LLC, Cincinnati, OH | 49 CFR 174.67 | Benchmark River and Rail Terminals, LLC is requesting a Special Permit to allow tank cars, containing hazardous materials, to remain standing with unloading connections attached when no product is being transferred, provided that a minimal level of monitoring is maintained with an operator/employee within the vicinity. (mode 2)
15413-N | QSA Global, Inc., Burlington, MA | 49 CFR 173.301, 173.302a | To authorize the one-way transportation in commerce of non-DOT specification cylinders containing Helium from QSA Global in Burlington, MA to Linde Gas in Stewartsville, NJ for transfer of gas to DOT authorized cylinders. (mode 1)
15382-N | Lockheed Martin Space Systems Company, Sunnyvale, CA | 49 CFR 177.834(l)(1) | To authorize the transportation in commerce of certain Division 1.4 explosives in a motor vehicle equipped with a cargo heater that has not been rendered inoperable. (mode 1)
15453-N | HRD Aero Systems Inc., Valencia, CA | 49 CFR 173.302a and 173.304a | To authorize the transportation in commerce of certain cylinders manufactured under DOT-SP 7971 which contain bromochlorodifluoro methane and nitrogen. (modes 1, 2, 3, 4, 5)
15434-N | Qal-Tek Associates, Idaho Falls, ID | 49 CFR 173.431 | Request for a special permit to transport expired sealed source capsules enclosed in Portable Nuclear density gauges. (modes 1, 4)
EMERGENCY SPECIAL PERMIT GRANTED
15320-N | Halliburton Energy Services, Broussard, LA | 49 CFR 173.401, 173.403, 173.410, 173.412, 173.41, 173.422, 173.465, and 173.466 | To authorize the one-time, one-way transportation in commerce of a well logging tool containing radioactive material (sealed source) in alternative packaging by motor vehicle. (mode 1)
15352-N | TEM Enterprises dba Xtra Airways, Boise, ID | 49 CFR 175.10(15) | To authorize the transportation of wheelchairs or other battery-powered mobility aids equipped with a non-spillable battery in checked baggage of passenger aircraft without disconnecting the batter. (mode 5)
15495-N | Dow Corning Corp., Midland, MI | 49 CFR 180.407 | To authorize the transportation in commerce of a MC331 cargo tank motor vehicle containing hydrogen chloride, refrigerated liquid that is passed its test date. (mode 1)
DENIED
12995-M | Request by Dow Chemical Company Midland, MI, August 10, 2011. To modify the special permit to reduce the sample size from 1 in 2,000 to 1 in 10,000.
11329-M | Request by Degesch America, Inc., Weyers Cave, VA, May 18, 2011.
15138-N | Request by Transportation Systems Solutions, Crystal Lake, IL, April 21, 2011. To authorize the transportation in commerce of certain combustible liquids in bulk packagings that are also marine pollutants in the port area without placards.
15296-N | Request by ATK Launch Systems Inc., Brigham City, UT June 14, 2011. To authorize the transportation in commerce of a Division 4.1 material in alternative packaging by motor vehicle.
15314-N | Request by Mohawk Electrical Systems, Inc., Milford, DE June 22, 2011. To authorize the transportation in commerce of three (3) Mines, 1.1D in alternative packaging by motor vehicle and cargo vessel.
15411-N | Request by Vexxel Composites LLC Brigham City, UT, October 27, 2011. To authorize the manufacturing, mark, sale and use of Carbon and Glass fiber reinforced, Stainless Steel lined composite pressure vessels per DOT-CFFC specification.
15399-N | Request by Cheyenne Light Fuel and Power Company, Rapid City, SD, October 19, 2011. To authorize the transportation in commerce of a Type 4 cylinder, resin impregnated, and fully wrapped continuous filament with a non-metallic liner containing methane.
15415-N | Request by Vexxel Composites LLC, Brigham City, UT, October 27, 2011. To authorize the manufacture, mark, sale, and use of non-DOT specification fully wrapped carbon-fiber reinforced aluminum lined cylinders per DOT-CFFC for the U.S. Army as a survival egress air support cylinder.
15454-N | Request by Hoke, Inc., Spartanburg, SC, September 28, 2011. To authorize the re-manufacturing of specific DOT Specification 3BN cylinders by reducing the volume from 4500 cc to 3000 cc.
15409-N | Request by Jiangxi Lidu Fireworks, Co, Ltd., Toronto, on August 24, 2011. Re exportation back to China via rail from Chicago to Long Beach and then via vessel to Shanghai, PR China.
15410-N | Request by Flashing Thunder Fireworks, Inc., Osage, IA, August 24, 2011. To authorize the transportation in commerce of Division 1.4G fireworks from the customs warehouse in Kentucky approximately 30 miles to a warehouse facility in West Harrison, IN to hold until issues regarding the EX numbers are resolved.

[FR Doc. 2011-30253 Filed 11-25-11; 8:45 am]

BILLING CODE 4910-60-M